DEPARTMENT OF DEFENSE

Department of the Air Force

32 CFR Part 806b

[Docket ID: USAF-2019-HQ-0006]

RIN 0701-AA89

Privacy Act Program

AGENCY: Department of the Air Force, DoD.

ACTION: Final rule.

SUMMARY: This final rule removes DoD's regulation concerning the Department of the Air Force Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, part 806b is now unnecessary and may be removed from the CFR.

DATES: This rule is effective on September 6, 2019.

FOR FURTHER INFORMATION CONTACT: LaDonne White, 571-256-2515.

SUPPLEMENTARY INFORMATION: DoD now has a single DoD-level Privacy Program rule at 32 CFR part 310 (84 FR 14728) that contains all the codified information required for the Department. The Department of the Air Force program regulation at 32 CFR part 806b, “Privacy Act Program,” last updated on January 7, 2004 (69 FR 954), is no longer required and can be removed.

It has been determined that publication of this CFR part removal for public comment is impracticable, unnecessary, and contrary to public interest since it is based on the removal of policies and procedures that are either now reflected in another CFR part, 32 CFR 310, or are publicly available on the Department's website. To the extent that the Department of the Air Force internal guidance concerning the implementation of the Privacy Act within the Department of the Air Force is necessary, it will continue to be published in “Air Force Privacy and Civil Liberties Program (AFI33-332),” available at https://static.e-publishing.af.mil/production/1/saf_cio_a6/publication/afi33-332/afi33-332.pdf (14 Feb 2019).

This rule is one of 20 separate component Privacy rules. With the finalization of the DoD-level Privacy rule at 32 CFR part 310, the Department is eliminating the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs” does not apply.

List of Subjects in 32 CFR Part 806b

Privacy.

PART 806b—[REMOVED]

Accordingly, by the authority of 5 U.S.C. 301, 32 CFR part 806b is removed.

Bao-Anh Trinh,
Air Force Federal Register Liaison Officer.

[FR Doc. 2019-19311 Filed 9-5-19; 8:45 am]

BILLING CODE 5001-10-P